DEPARTMENT OF COMMERCE

National Oceanic and Atmospheric Administration

Interagency Ocean Observation Committee, Meeting of the Data Management and Communications Steering Team

AGENCY: National Ocean Service (NOS), National Oceanic and Atmospheric Administration (NOAA), U.S. Department of Commerce (DOC).

ACTION: Notice of open meeting.

SUMMARY: NOAA's Integrated Ocean Observing System (IOOS) Program publishes this notice on behalf of the Interagency Ocean Observation Committee (IOOC) to announce a formal meeting of the IOOC's Data Management and Communications Steering Team (DMAC-ST). The DMAC-ST membership is comprised of IOOC-approved federal agency representatives who will discuss issues outlined in the agenda.

DATES: The meeting is scheduled for May 11, 2011, between 9 a.m. and 5 p.m. and May 12, 2011 between 9 a.m. and 1 p.m., Eastern Daylight Time.

ADDRESSES: The meeting will be broadcast via a conference telephone call. Public access is available at 1100 Wayne Avenue, Suite 1225, Silver Spring, MD 20910.

FOR FURTHER INFORMATION CONTACT: For further information about this notice, please contact the U.S. IOOS Program (Samuel Walker, 301-427-2450, sam.walker@noaa.gov) or the IOOC Support Office (Joshua Young, 202-787-1622, jyoung@oceanleadership.org).

SUPPLEMENTARY INFORMATION: The IOOC was established by Congress under the Integrated Coastal and Ocean Observation System Act of 2009 and created under the National Ocean Research Leadership Council (NORLC). The DMAC-ST was subsequently chartered by the IOOC in December 2010 to assist with technical guidance with respect to the management of ocean data collected under the U.S. IOOS. The IOOC's Web site (http://www.iooc.us/) contains more information about their charter and responsibilities. A summary of the DMAC-ST meetings, documentations, activities and terms of reference can also be found on-line, at the following address: http://www.iooc.us/committee-news/dmac.

Date: May 3, 2011.
Christopher C. Cartwright,
Associate Assistant Administrator for Management and CFO/CAO, Ocean Services and Coastal Zone Management.

[FR Doc. 2011-11317 Filed 5-9-11; 8:45 am]

BILLING CODE 3510-22-P